DEPARTMENT OF COMMERCE

National Oceanic and Atmospheric Administration

RIN 0648-XE372

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team (CPT) will meet in Anchorage, AK.

DATES: The meeting will be held on Tuesday, January 12, 2016 through Friday, January 15, 2016, from 9 a.m. to 5 p.m.

ADDRESSES: The meeting will be held in the Birch/Willow room at the Hilton Hotel, 500 W 3rd Ave., Anchorage, AK 99501.

Council address: North Pacific Fishery Management Council, 605 W. 4th Ave., Suite 306, Anchorage, AK 99501-2252; telephone: (907) 271-2809.

FOR FURTHER INFORMATION CONTACT: Diana Stram, Council staff; telephone: (907) 271-2809.

SUPPLEMENTARY INFORMATION:

Agenda

Tuesday, January 12, 2016 through Friday, January 15, 2016

The agenda includes developing recommendations on 2016-2017 OFL (over fishing limit) and ABC (acceptable biological catch) catch for NS RKC (Norton Sound Red King Crab), review assessment models for BSAI (Bering Sea and Aleutian Island) crab stocks, develop crab specific ecosystem indices, review a discussion paper on crab bycatch, revise the crab SAFE (Stock Assessment and Fishery Evaluation) guidelines and terms of reference for the CPT. The Agenda is subject to change, and the latest version will be posted at http://www.npfmc.org/

Special Accommodations

These meetings are physically accessible to people with disabilities. Requests for sign language interpretation or other auxiliary aids should be directed to Shannon Gleason at (907) 271-2809 at least 7 working days prior to the meeting date.

Dated: December 18, 2015.
Tracey L. Thompson,
Acting Deputy Director, Office of Sustainable Fisheries, National Marine Fisheries Service.

[FR Doc. 2015-32297 Filed 12-22-15; 8:45 am]

BILLING CODE 3510-22-P